INTERNATIONAL TRADE COMMISSION

[Investigation No. 337-TA-641]

Certain Variable Speed Wind Turbines and Components Thereof; Notice of Commission Determination To Extend the Deadline for Public Submissions on Remedy, the Public Interest, and Bonding, and for Responses to All Remedy, Public Interest, and Bonding Submissions

AGENCY: U.S. International Trade Commission.

ACTION: Notice.

SUMMARY: Notice is hereby given that the U.S. International Trade Commission has determined to extend the deadline for public submissions on remedy, the public interest, and bonding, and for responses to all remedy, public interest, and bonding submissions in the above-captioned investigation under section 337 of the Tariff Act of 1930, as amended, 19 U.S.C. 1337 (“section 337”).

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on March 31, 2008, based upon a complaint filed on behalf of General Electric Company of Fairfield, Connecticut on February 7, 2008. 73 FR 16910. The complaint alleged violations of section 337 of the Tariff Act of 1930 (19 U.S.C. 1337) in the importation into the United States, the sale for importation, and the sale within the United States after importation of certain variable speed wind turbines and components thereof that infringes claims 121-125 of U.S. Patent No. 5,083,039 and claims 1-12, 15-18, and 21-28 of U.S. Patent No. 6,921,985.

On August 7, 2009, the ALJ issued his final ID finding a violation of section 337.

On October 8, 2009, the Commission issued notice of its decision to review-in-part the final ID, requesting briefing on the issues on review, including certain specific questions, and on remedy, the public interest, and bonding.

On October 19 and 20, 2009, respectively, Iberdrola Renewables filed a motion and corrected motion to extend the date for public submissions until two weeks after the issuance of the public version of the final initial determination and recommended determination on remedy, the public interest, and bonding (“ID”).

The public version of the ID issued on October 21, 2009.

In light of these circumstances, the Commission has determined as follows: (a) The public may submit comments on remedy, the public interest, and bonding until November 2, 2009. (b) The parties and the public may reply to any submissions on remedy, the public interest, and bonding until November 9, 2009. (c) The parties' schedule for briefing on any issues related to violation is unaffected by this extension.

This action is taken under the authority of section 337 of the Tariff Act of 1930, as amended (19 U.S.C. 1337), and under sections 210.50 of the Commission's Rules of Practice and Procedure (19 CFR 210.50).

Issued: October 23, 2009.
By order of the Commission.
Marilyn R. Abbott,
Secretary to the Commission.

[FR Doc. E9-26019 Filed 10-27-09; 8:45 am]

BILLING CODE 7020-02-P